DEPARTMENT OF HEALTH AND HUMAN SERVICES

Administration for Children and Families

Submission for Office of Management and Budget (OMB) Review; Community Services Block Grant (CSBG) Annual Progress Report (OMB No. 0970-0492)

AGENCY: Office of Community Services, Administration for Children and Families, U.S. Department of Health and Human Services.

ACTION: Request for public comments.

SUMMARY: The Office of Community Services (OCS), Administration for Children and Families (ACF) requests an extension with minor changes to the currently approved Community Services Block Grant (CSBG) Annual Progress Report, (OMB #0970-0492, expiration 6/30/2024) and is submitting the Tribal Annual Report and Tribal Short Form, as well as removing supplemental funding reports that are no longer in use. Plans for further revisions to this report are also discussed below.

DATES: Comments due July 29, 2024. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Section 678E of the CSBG Act requires states, including the District of Columbia and the Commonwealth of Puerto Rico, and U.S. territories, to annually prepare and submit a report on the measured performance of the state and the eligible entities in the state. Prior to the participation of the state in the performance measurement system, the state shall include in the report any information collected by the state relating to such performance. Each state shall also include in the report an accounting of the expenditure of funds received by the state through the CSBG program, including an accounting of funds spent on administrative costs by the state and the eligible entities, and funds spent by the eligible entities on the direct delivery of local services, and shall include information on the number of and characteristics of clients served under the subtitle in the state, based on data collected from the eligible entities. The state shall also include in the report a summary describing the training and technical assistance offered by the state.

Section 3(b) of the Government Performance and Results (GPRA) Modernization Act of 2010 (GPRAMA) requires OCS, as an office under the U.S. Department of Health and Human Services, to collect performance information for the CSBG. This current request includes CSBG Annual Report 2.1. OCS is requesting an extension of the current Annual Report with clarification revisions to be used in federal fiscal year (FY) 2024 as a requirement to satisfy section 678E of the CSBG Act and then as an optional collection instrument in FY 2025 to support an incremental implementation. OCS also plans to discontinue the currently approved Supplemental Funding Reports under this OMB control number. OCS is introducing the CSBG Annual Report 3.0 Tribal Annual Report—a modified annual report to collect performance information from CSBG directly funded tribal grant recipients receiving more than $50,000. Tribes would be required to report using the Tribal Annual Report to fulfill FY 2024 to FY 2026 reporting requirements due each year on March 31; and the CSBG Annual Report 3.0 Tribal Short Form for use by tribes directly funded by CSBG below the $50,000 funding threshold. Both the Tribal Annual Report and Tribal Short Form were developed using the revisions of the CSBG Annual Report to provide a comparable reporting schema for directly funded CSBG tribes commensurate with their funding levels to minimize burden while collecting performance data. Tribes receiving less than $50,000 annual would be required to report using the Tribal Short Form to fulfill FY 2024 to FY 2026 reporting requirements due each year on March 31.

OCS has also updated the Annual Report for future years, the CSBG Annual Report 3.0. This updated version was originally planned to be submitted in conjunction with the extension of version 2.1, but in an effort to be responsive to the public comments received during the 60-day comment period (89 FR 29339), OCS is delaying submission of that version. Once all comments are reviewed, addressed and a final proposed version 3.0 is ready, a subsequent notice will be published in the Federal Register announcing the opportunity to provide comments in conjunction with submission to OMB. This will provide a 30-day comment period. The future request is expected to include the following:

1. CSBG Annual Report 3.0—a substantial revision of the current Annual Report form. This updated version continues to streamline state administrative information, as well as National Performance Indicators for individuals and families as reported by eligible entities. The proposed revisions seek to lessen the burden of the previous iteration of the report by decreasing the amount of data points collected, clarifying data points by using clearer language, removing items not pertinent to annual report data collection, and improving data points to reflect industry standards in measuring the reduction of poverty. This revision would be an optional collection instrument in FY 2026 to support incremental implementation and minimize burden to the public and would become the required sole collection instrument in FY 2027.

Copies of the proposed collections of information can be obtained by visiting: http://www.acf.hhs.gov/programs/ocs/programs/csbg.

Respondents: State governments, including the District of Columbia, the Commonwealth of Puerto Rico, U.S. territories, directly funded federally and state-recognized tribes and CSBG eligible entities.

Annual Burden Estimates

Estimated Burden—FY24

In FY24, states and tribal grant recipients would be required to complete the current versions of the Annual Reports.

Instrument | Total number of respondents | Total number of responses per respondent | Average burden hours per response | Annual burden hours
CSBG Annual Report 2.1 (States) | 56 | 1 | 198 | 11,088
CSBG Annual Report 2.1 (Eligible Entities) | 1,000 | 1 | 493 | 493,000
CSBG Tribal Annual Report | 24 | 1 | 111 | 2,664
CSBG Tribal Annual Report Short Form | 30 | 1 | 40 | 1,200
FY24 Total Annual Burden Estimates |  |  |  | 507,952

Comments: The Department specifically requests comments on the following:

1. Whether the proposed collection of information is necessary for the proper performance measurement of Federal, State, or local agencies.

2. The quality of the information to be collected.

3. The clarity of the information to be collected.

4. Does the information to be collected produce significant burden? If so, how could the burden be minimized on respondents, including using automated collection techniques or other forms of technology?

5. The accuracy of the agency's estimate of the burden of the proposed collection of information.

6. What, if any, additions, revisions, or modifications to the information collection would you suggest?

Consideration will be given to comments and suggestions submitted within 30 days of this publication.

Authority: 112 Stat. 2729; 42 U.S.C. 9902(2).

Mary C. Jones,
ACF/OPRE Certifying Officer.

[FR Doc. 2024-14172 Filed 6-27-24; 8:45 am]

BILLING CODE 4184-27-P